DEPARTMENT OF DEFENSE

Office of the Secretary

RIN 0720-ZA05

Office of the Secretary of Defense (Health Affairs)/TRICARE Management Activity

AGENCY: Department of Defense.

ACTION: Notice of a TRICARE Demonstration Project for the State of Alaska; correction.

SUMMARY: The Department of Defense published a notice entitled TRICARE Demonstration Project for the State of Alaska on May 18, 2004 (74 FR 28124). This document corrects the effective date for that notice. The effective date is corrected to read as follows:

EFFECTIVE DATE: Effective with the start date of health care delivery on July 1, 2004 for the current TRICARE Regions 9, 10 and 12 within the TRICARE Management Activity Health Services and Support Contract for the Western Region.

ADDRESSES: TRICARE Management Activity (TMA), Regional Operations Directorate, 5111 Leesburg Pike, Suite 810, Falls Church, VA 22041-3206. All other information remains unchanged.

Dated: May 19, 2004.
L.M. Bynum,
Alternate OSD Federal Register, Liaison, Officer, Department of Defense.

[FR Doc. 04-11685 Filed 5-21-04; 8:45 am]

BILLING CODE 5001-06-M